DEPARTMENT OF TRANSPORTATION

Office of the Secretary

Aviation Proceedings, Agreements Filed During the Week Ending April 27, 2001

The following Agreements were filed with the Department of Transportation under provisions of 29 U.S.C. Sections 412 and 414. Answers may be filed within 21 days after the filing of the applications.

Docket Number: OST-2001-9514.

Date Filed: April 23, 2001.

Parties: Members of the International Air Transport Association.

Subject: PTC12 NMS-AFR 0106 dated 26 March 2001 (Mail Vote 120), Mid Atlantic-Africa Resolutions r1-r10, PTC12 NMS-AFR 0112 dated 20 April 2001 adopting Mail Vote 120, Description of Agreement (Not applicable to/from USA, US Territories), PTC12 NMS-AFR 0108 dated 30 March 2001, South Atlantic-Africa Resolutions r-11-r24, PTC12 NMS-AFR 0113 dated 20 April 2001 Technical Correction, Minutes—PTC12 NMS-AFR 0107 dated 30 March 2001 filed with Docket OST-01-9499, Tables—PTC12 NMS-AFR Fares 0059 dated 6 April 2001, PTC12 NMS-AFR Fares 0062 dated 20 April 2001, Intended effective date: 1 May 2001.

Docket Number: OST-2001-9568.

Date Filed: April 26, 2001.

Parties: Members of the International Air Transport Association.

Subject: PTC AFR 0106 dated 24 April 2001, Mail Vote 123—Resolution 010z R1-R5, TC2 Within Africa Special Passenger Amending Resolution from Zimbabwe to Zambia, Intended effective date: 15 May 2001.

Docket Number: OST-2001-9573.

Date Filed: April 27, 2001.

Parties: Members of the International Air Transport Association.

Subject: PTC3 0495 dated 24 April 2001, Mail Vote 124—Resolution 010a, TC3 Special Passenger Amending Resolution between China and Korea R1-R4, Intended effective date: 11 June 2001.

Docket Number: OST-2001-9575.

Date Filed: April 27, 2001.

Parties: Members of the International Air Transport Association.

Subject: Application of International Air Transport Association pursuant to 49 U.S.C. Section 40109, requesting an exemption from the requirement of condition #2 of CAB Order 68-7-55, that all Traffic Conference Resolutions and Recommended Practices be submitted for approval and antitrust immunity so that those Resolutions and Recommended Practices adopted by the IATA Passenger Services Conference and enumerated in the Appendix to this document may be put into effect without the Department's prior review.

Dorothy Y. Beard,
Federal Register Liaison.

[FR Doc. 01-12113 Filed 5-14-01; 8:45 am]

BILLING CODE 4910-62-P